DEPARTMENT OF DEFENSE

Department of the Army; Corps of Engineers

Amended Notice of Intent To Prepare an Environmental Impact Statement for the Proposed Regional Watershed Supply Project, Notice of Additional Public Scoping Meetings and Extension of Scoping Period

AGENCY: Department of the Army, U.S. Army Corps of Engineers, DoD.

ACTION: Notice; extension of comment period; additional public scoping meetings.

SUMMARY: The public scoping comment period for the Intent to Prepare an Environmental Impact Statement for the Regional Watershed Supply Project by Million Conservation Resource Group, published in the Federal Register on Friday, March 20, 2009 (74 FR 11920), required comments be submitted by May 19, 2009 following publication in the Federal Register. The comment period has been extended to July 27, 2009. In addition, the COE will be conducting two additional public scoping meetings to describe the Project, preliminary alternatives, the NEPA compliance process, and to solicit input on the issues and alternatives to be evaluated and other related matters.

Scoping meetings will be held on:

1. June 10, 2009, 6:30 to 9 p.m., Center of Craig, 601 Yampa Ave, Craig, CO.

2. June 11, 2009, 6:30 to 9 p.m., Mesa County Fairgrounds, 2785 US Hwy 50, Grand Junction, CO.

FOR FURTHER INFORMATION CONTACT: Questions and comments regarding the proposed action and EIS should be addressed to Ms. Rena Brand, Project Manager, U.S. Army Corps of Engineers, Denver Regulatory Office, 9307 S. Wadsworth Blvd., Littleton, CO 80128-6901; (303) 979-4120; mcrg.eis@usace.army.mil.

SUPPLEMENTARY INFORMATION: None.

Timothy T. Carey,
Chief, Denver Regulatory Office.

[FR Doc. E9-10734 Filed 5-7-09; 8:45 am]

BILLING CODE 3720-58-P